Memorandum of November 9, 2001

Determinations Under Section 1106(a) of the Omnibus Trade and Competitiveness Act of 1988—Separate Customs

Territory of Taiwan, Penghu, Kinmen, and Matsu

Memorandum for the United States Trade Representative

Section 1106(a) of the Omnibus Trade and Competitiveness Act of 1988, (19 U.S.C. 2905(a)) (the “1988 Act”), requires the President to determine for any major trading country that is acceding to the World Trade Organization (WTO) whether state trading enterprises account for a significant share of the exports of that major trading country or goods that compete with imports into that country and whether such state trading enterprises unduly burden and restrict, or adversely affect, the foreign trade of the United States or the United States economy, or are likely to result in such a burden, restriction, or effect.

Taiwan, known in the WTO as “the Separate Customs Territory of Taiwan, Penghu, Kinmen and Matsu,” is in the final stage of its accession to the WTO. Thus, pursuant to section 1106(a) of the 1988 Act, I determine that state trading enterprises do not account for a significant share of the exports of the Separate Customs Territory of Taiwan, Penghu, Kinmen, and Matsu or of goods that compete with exports to the Separate Customs Territory. Further, I determine that such state trading enterprises do not unduly burden and restrict, or adversely affect, the foreign trade of the United States or the United States economy, and are not likely to result in such a burden, restriction, or effect.

You are directed to publish this memorandum in the Federal Register.

B

THE WHITE HOUSE,

Washington, November 9, 2001.

[FR Doc. 01-28764

Filed 11-14-01; 8:45 am]

Billing code 3190-01-M